CONSUMER PRODUCT SAFETY COMMISSION

16 CFR Part 1307

[Docket No. CPSC-2014-0033]

Prohibition of Children's Toys and Child Care Articles Containing Specified Phthalates; Correction

AGENCY: Consumer Product Safety Commission.

ACTION: Correcting amendments.

SUMMARY: On October 27, 2017, the Commission issued a final rule prohibiting children's toys and child care articles that contain concentrations of more than 0.1 percent of certain phthalates. That document contained typographical and technical errors. This document corrects those errors.

DATES: Effective on July 23, 2018.

FOR FURTHER INFORMATION CONTACT: Carol L. Afflerbach, Compliance Officer, Office of Compliance and Field Operations, Consumer Product Safety Commission, 4330 East West Highway, Bethesda, MD 20814-4408; telephone: 301-504-7529; email: cafflerbach@cpsc.gov.

SUPPLEMENTARY INFORMATION: The Commission is correcting typographical and technical errors in the final rule, Prohibition of Children's Toys and Child Care Articles Containing Specified Phthalates, 16 CFR part 1307, which appeared in the Federal Register on October 27, 2017. 82 FR 49938. This document corrects typographical and technical errors in the listing of phthalates in paragraphs (a) and (b) of § 1307.3. We are making these corrections to avoid possible confusion. This document corrects technical errors; it does not make any substantive changes to the final rule.

List of Subjects in 16 CFR Part 1307

Consumer protection, Imports, Infants and children, Law enforcement, and Toys.

Accordingly, 16 CFR part 1307 is corrected by making the following correcting amendments:

PART 1307—PROHIBITION OF CHILDREN'S TOYS AND CHILD CARE ARTICLES CONTAINING SPECIFIED PHTHALATES

1. The authority citation for part 1307 continues to read as follows:

Authority: Sec. 108, Pub. L. 110-314, 122 Stat. 3016 (August 14, 2008); Pub. L. 112-28, 125 Stat. 273 (August 12, 2011).

§ 1307.3 [Amended]

2. Amend § 1307.3 by:

a. Removing the words “di-(2-ethyhexyl) phthalate (DEHP)” in paragraph (a) and adding, in its place, the words “di-(2-ethylhexyl) phthalate (DEHP)”; and

b. Removing the words “and dicyclohexly phthalate (DCHP)” in paragraph (b) and adding, in its place, the words “or dicyclohexyl phthalate (DCHP)”.

Abioye E. Mosheim,
Acting Secretary, U.S. Consumer Product Safety Commission.

[FR Doc. 2018-15662 Filed 7-20-18; 8:45 am]

BILLING CODE 6355-01-P